DEPARTMENT OF THE INTERIOR

National Park Service

Captain John Smith Chesapeake National Historic Trail Advisory Council

AGENCY: National Park Service, Interior.

ACTION: Notice of meeting.

SUMMARY: As required by the Federal Advisory Committee Act, the National Park Service (NPS) is hereby giving notice that the Advisory Committee on the Captain John Smith Chesapeake National Historic Trail will hold a meeting via conference call. Designated through an amendment to the National Trails System Act (16 U.S.C. 1241), the trail consists of “a series of water routes extending approximately 3,000 miles along the Chesapeake Bay and its tributaries in the States of Virginia, Maryland, Delaware, and in the District of Columbia,” tracing the 1607-1609 voyages of Captain John Smith to chart the land and waterways of the Chesapeake Bay. This meeting is available to the public through a toll-free call-in number. Preregistration is required to receive call-in information. Any individual who wishes to participate in the call or provide public comment should register prior to February 1, 2012 via email at Christine_Lucero@nps.gov or telephone: (757) 258-8914. For those wishing to make comments, please provide a written summary of your comments prior to the meeting. The Designated Federal Official for the Advisory Council is John Maounis, Superintendent, Captain John Smith National Historic Trail, telephone: (410) 260-2471.

DATES: The Captain John Smith Chesapeake National Historic Trail Advisory Council will meet from 1 p.m. to 3 p.m. on Wednesday, February 1, 2012.

ADDRESSES: The meeting will convene via conference call at 1 p.m. on February 1, 2012. For more information, please contact the NPS Chesapeake Bay Office, 410 Severn Avenue Suite 314, Annapolis, MD 21403.

FOR FURTHER INFORMATION CONTACT: Christine Lucero, Partnership Coordinator for the Captain John Smith Chesapeake National Historic Trail, telephone: (757) 258-8914 or email: Christine_Lucero@nps.gov.

SUPPLEMENTARY INFORMATION: Under section 10(a)(2) of the Federal Advisory Committee Act (5 U.S.C. App.), this notice announces a meeting of the Captain John Smith Chesapeake National Historic Trail Advisory Council for the purpose of reviewing the land conservation strategy of the Captain John Smith Chesapeake National Historic Trail.

The Committee meeting is available to the public through a toll-free call-in number. Preregistration is required to receive call-in information. Any individual who wishes to participate in the call or provide public comment should register prior to February 1, 2012 via email at Christine_Lucero@nps.gov or telephone: (757) 258-8914; a written summary of comments should be provided prior to the meeting. Before including your address, telephone number, email address, or other personal identifying information in your comment, you should be aware that your entire comment-including your personal identifying information-may be made publicly available at any time. While you can ask us in your comment to withhold your personal identifying information from public review, we cannot guarantee that we will be able to do so. All comments will be made part of the public record and will be electronically distributed to all Committee members.

Dated: January 6, 2012.
John Maounis,
Superintendent, Captain John Smith National Historic Trail, National Park Service, Department of the Interior.

[FR Doc. 2012-626 Filed 1-13-12; 8:45 am]

BILLING CODE P